DEPARTMENT OF THE INTERIOR

Fish and Wildlife Service

[FWS-HQ-IA-2013-N042; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibits activities with listed species unless Federal authorization is acquired that allows such activities.

DATES: We must receive comments or requests for documents on or before March 27, 2013. We must receive requests for marine mammal permit public hearings, in writing, at the address shown in the ADDRESSES section by March 27, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Cincinnati Zoo & Botanical Garden, Cincinnati, OH; PRT-76114A

The applicant requests a permit to import biological samples, including semen, from captive-held Sumatran rhinoceros (Dicerorhinus sumatrensis) from the Sabah Wildlife Department, Sabah, Malaysia, for the purpose of enhancement of the species through captive propagation and scientific research. This notification covers activities to be conducted by the applicant over a 5-year period.

Applicant: Cincinnati Zoo & Botanical Garden, Cincinnati, OH; PRT-96521A

The applicant requests a permit to export and re-export biological samples, including semen, from captive-born and captive-held Sumatran rhinoceros (Dicerorhinus sumatrensis) to the Sabah Wildlife Department, Sabah, Malaysia, for the purpose of enhancement of the species through captive propagation and scientific research. This notification covers activities to be conducted by the applicant over a 5-year period.

Applicant: 4D Game Ranch, Sidney, TX; PRT-95026A

The applicant requests a captive-bred wildlife registration under 50 CFR 17.21(g) for the barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: 4D Game Ranch, Sidney, TX; PRT-95027A

The applicant requests a permit authorizing interstate and foreign commerce, export, and cull of excess scimitar-horned oryx (Oryx dammah), and addax (Addax nasomaculatus) from the captive herd maintained at their facility, for the purpose of enhancement of the survival of the species. This notification covers activities to be conducted by the applicant over a 5-year period.

Applicant: La Barronena Ranch East Partners, LP, Hebbronville, TX; PRT-94867A

The applicant requests a captive-bred wildlife registration under 50 CFR 17.21(g) for the scimitar-horned oryx (Oryx dammah) to enhance the species' propagation or survival. This notification covers activities to be conducted by the applicant over a 5-year period.

Applicant: Southwestern Medical Centers-Arizona Inc., Del Rio, TX; PRT-95424A

The applicant requests a captive-bred wildlife registration under 50 CFR 17.21(g) for the scimitar-horned oryx (Oryx dammah), addax (Addax nasomaculatus), and dama gazelle (Nanger dama) to enhance the species' propagation or survival. This notification covers activities to be conducted by the applicant over a 5-year period.

Applicant: Southwestern Medical Centers-Arizona Inc., Del Rio, TX; PRT-95422A

The applicant requests a permit authorizing interstate and foreign commerce, export, and cull of excess scimitar-horned oryx (Oryx dammah), and addax (Addax nasomaculatus) from the captive herd maintained at their facility, for the purpose of enhancement of the survival of the species. This notification covers activities to be conducted by the applicant over a 5-year period.

Applicant: Michael Burroughs, Las Vegas, NV; PRT-94167A

The applicant requests a captive-bred wildlife registration under 50 CFR 17.21(g) for the radiated tortoise (Astrochelys radiata) to enhance the species' propagation or survival. This notification covers activities to be conducted by the applicant over a 5-year period.

Applicant: Charles Crawford, Greenville, VA; PRT-96383A

The applicant requests a captive-bred wildlife registration under 50 CFR 17.21(g) for the radiated tortoise (Astrochelys radiata) to enhance the species' propagation or survival. This notification covers activities to be conducted by the applicant over a 5-year period.

Applicant: Greg Schmitt, Trafford, PA; PRT-96508A

The applicant requests a captive-bred wildlife registration under 50 CFR 17.21(g) for the radiated tortoise (Astrochelys radiata) to enhance the species' propagation or survival. This notification covers activities to be conducted by the applicant over a 5-year period.

Applicant: Brian Buchanan, Beckley, WV; PRT-96499A

The applicant requests a captive-bred wildlife registration under 50 CFR 17.21(g) for the scimitar-horned oryx (Oryx dammah), addax (Addax nasomaculatus), and red lechwe (Kobus leche) to enhance the species' propagation or survival. This notification covers activities to be conducted by the applicant over a 5-year period.

Applicant: Heart A Ranch, Sonora, TX; PRT-96457A

The applicant requests a captive-bred wildlife registration under 50 CFR 17.21(g) for the scimitar-horned oryx (Oryx dammah), and addax (Addax nasomaculatus) to enhance the species' propagation or survival. This notification covers activities to be conducted by the applicant over a 5-year period.

Applicant: Heart A Ranch, Sonora, TX; PRT-96459A

The applicant requests a permit authorizing interstate and foreign commerce, export, and cull of excess scimitar-horned oryx (Oryx dammah) from the captive herd maintained at their facility, for the purpose of enhancement of the survival of the species. This notification covers activities to be conducted by the applicant over a 5-year period.

Applicant: Smithsonian National Zoo Park, Washington, DC; PRT-89695A

The applicant requests a permit to export and re-export semen samples, from captive-held and wild specimens of Cheetah (Acinonyx jubatus) to Canada for the purpose of enhancement of the species through scientific research.

Applicant: Zoological Wildlife Foundation, Inc., Miami, FL; PRT-96647A

The applicant requests a captive-bred wildlife registration under 50 CFR 17.21(g) for the ring-tailed lemur (Lemur catta), black and white ruffed lemur (Varecia variegata), red ruffed lemur (Varecia rubra), lar gibbon (Hylobates lar), leopard (Panthera pardus), and snow leopard (Uncia uncia) to enhance the species' propagation or survival. This notification covers activities to be conducted by the applicant over a 5-year period.

Applicant: International Center For The Preservation of Wild Animals, Cumberland, OH; PRT-793628

The applicant requests renewal of their captive-bred wildlife registration under 50 CFR 17.21(g) for the following families, and species, to enhance their propagation or survival. This notification covers activities to be conducted by the applicant over a 5-year period.

Families:

Bovidae

Cervidae

Equidae

Rhinocerotidae

Gruidae

Species:

Bactrian camel (Camelus bactrianus)

Peninsular pronghorn (Antilocapra americana peninsularis)

Cheetah (Acinonyx jubatus)

African wild dog (Lycaon pictus)

Dhole (Cuon alpinus)

Applicant: Randar's Reptiles, Mcdonough, GA; PRT-034669

The applicant requests renewal of their captive-bred wildlife registration under 50 CFR 17.21(g) for the golden parakeet (Guarouba guarouba) to enhance their propagation or survival. This notification covers activities to be conducted by the applicant over a 5-year period.

Applicant: Peoria's Glen Oak Zoo, Peoria, IL; PRT-690797

The applicant requests renewal of their captive-bred wildlife registration under 50 CFR 17.21(g) for the following families, and species, to enhance their propagation or survival. This notification covers activities to be conducted by the applicant over a 5-year period.

Families:

Cebidae

Cercopithecidae

Felidae (does not include jaguar, margay or ocelot)

Hominidae

Hylobatidae

Lemuridae

Sturnidae (does not include Aplonis pelzelni)

Alligatoridae

Crocodylidae (does not include American crocodile)

Testudinidae

Species:

Grevy's zebra (Equus grevyi)

Parma wallaby (Macropus parma)

Panamanian golden frog (Atelopus zeteki)

Applicant: Exotic Feline Breeding Compound, Rosamond, CA; PRT-708685

The applicant requests renewal of their captive-bred wildlife registration under 50 CFR 17.21(g) for the family Felidae, to enhance their propagation or survival. This notification covers activities to be conducted by the applicant over a 5-year period.

Applicant: Patricia Green, Willow, CA; PRT-793094

The applicant requests renewal of their captive-bred wildlife registration under 50 CFR 17.21(g) for the golden parakeet (Guarouba guarouba) to enhance their propagation or survival. This notification covers activities to be conducted by the applicant over a 5-year period.

Applicant: Christopher Resnyk, Linwood, PA; PRT-01668A

The applicant requests renewal of their captive-bred wildlife registration under 50 CFR 17.21(g) for the radiated tortoise (Astrochelys radiata) to enhance their propagation or survival. This notification covers activities to be conducted by the applicant over a 5-year period.

Applicant: Rhodes Brothers Taxidermy, Kerrville, TX; PRT-88938A

The applicant requests a permit to export the sport-hunted trophy/trophies of one addax (Addax nasomaculatus), and one scimitar-horned oryx (Oryx dammah) culled from a captive herd maintained in the state of Texas, for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Charles Wall, Greer, SC; PRT-96125A.

Applicant: Lyle Berry, Grand Rapids, MI; PRT-92657A.

B. Endangered Marine Mammals and Marine Mammals

Applicant: Karyn Rode, USGS, Anchorage, AK; PRT-95406A

The applicant requests a permit to take four polar bears (Ursus maritimus) captive-held at Alaska Zoo and Oregon Zoo by immobilization, biological sampling and fitting and removal of GPS collars for the purpose of scientific research on polar bears' diet and energetics. This notification covers activities to be conducted by the applicant over a 2-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2013-04239 Filed 2-22-13; 8:45 am]

BILLING CODE 4310-55-P